SURFACE TRANSPORTATION BOARD

[Docket No. FD 36435]

Cattaraugus Local Development Corp.—Acquisition Exemption—Rail Line in Cattaraugus County, NY

Cattaraugus Local Development Corp. (CLDC), a noncarrier, has filed a verified notice of exemption under 49 CFR 1150.31 to acquire approximately 12.14 miles of rail line extending from milepost 426.5, in the Town of New Albion, to the city line of the City of Salamanca in the Town of Salamanca, which is near milepost 414.1,¹ in Cattaraugus County, NY (the Line).

¹ The verified notice states that the Line extends “to the City line of the City of Salamanca in the Town of Salamanca (near milepost 414.1).” In a supplement filed on September 8, 2020, CLDC states that milepost 414.1 is the closest mile marker to the southern boundary of the Line but “the actual [m]ilepost, if it existed,” would be milepost 414.36.

CLDC states that Cattaraugus County Industrial Development Agency (IDA) acquired the Line from the Trustees of the Erie Lackawanna Railway Company in 1980. CLDC further states that IDA transferred the Line to CLDC on or about August 2000 and that, since 2005, the Line has been used as a recreational trail known as the Senator Pat McGee Trail. CLDC now seeks after-the-fact Board authorization for its 2000 acquisition.²

² In a related proceeding currently held in abeyance, CLDC is seeking authorization to abandon the Line. See Cattaraugus Local Dev. Corp.—Aban. Exemption—in Cattaraugus Cnty., N.Y., AB 1300X et al. (STB served Aug. 5, 2020).

CLDC certifies that its annual revenues as a consequence of the transaction are not projected to exceed $5 million and will not result in CLDC becoming a Class I or a Class II rail carrier. CLDC also certifies that the acquisition does not involve any provisions or agreements that would limit future interchange with a third-party connecting carrier.

The transaction will become effective on October 8, 2020 (30 days after the verified notice of exemption was filed).³

³ Although CLDC initially submitted its verified notice on September 1, 2020, the date of its supplement is considered the filing date and the basis for all dates in this notice.

If the verified notice contains false or misleading information, the exemption is void ab initio. Petitions to revoke the exemption under 49 U.S.C. 10502(d) may be filed at any time. The filing of a petition to revoke will not automatically stay the effectiveness of the exemption. Petitions to stay must be filed no later than October 1, 2020 (at least seven days before the exemption becomes effective).

All pleadings, referring to Docket No. FD 36435, must be filed with the Surface Transportation Board either via e-filing or in writing addressed to 395 E Street SW, Washington, DC 20423-0001. In addition, a copy of each pleading must be served on CLDC's representative, Robert J. McLaughlin, McLaughlin Law, P.C., 90 State Street, Suite 700, Albany, NY 12207.

This action is categorically excluded from environmental review under 49 CFR 1105.6(c) and from historic preservation reporting requirements under 49 CFR 1105.8(b)(1).

Board decisions and notices are available at www.stb.gov.

Decided: September 18, 2020.
By the Board, Allison C. Davis, Director, Office of Proceedings.
Eden Besera,
Clearance Clerk.

[FR Doc. 2020-21063 Filed 9-23-20; 8:45 am]

BILLING CODE 4915-01-P